DEPARTMENT OF DEFENSE

Office of the Secretary

[Docket ID: DoD-2010-OS-0017]

Proposed Collection; Comment Request

AGENCY: Defense Logistics Agency, DOD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the Agency, including whether the information shall have practical utility; (b) the accuracy of the Agency's estimate of the burden of the proposed information collection; (c) ways to enhance the quality, utility, and clarity of the information to be collected; and (d) ways to minimize the burden of the information collection on respondents, including through the use of automated collection techniques or other forms of information technology.

DATES: Consideration will be given to all comments received by April 12, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Defense Logistics Agency, ATTN: Ms. Mickey Slater, J-651, 8725 John J. Kingman Road, Fort Belvoir, Virginia 22060, or call (703) 767-2171.

Title; Associated Form; and OMB Number: Vehicle Registration System (VRS); Facility Access Records—Vehicle Registration Form; OMB Control Number 0704-TBD.

Needs and Uses: DLA Enterprise Support—Columbus (DES-C) is responsible for controlling access to the Defense Supply Center, Columbus (DSCC). A person who lives or works on a DLA installation or often uses DLA facilities is required to register his/her privately-owned vehicle (POV) as recorded in the Vehicle Registration System (VRS) as required under the provisions outlined in AR 190-5/OPNAV 11200.5D/AFI 31-218(I)/MCO 5110.1D/DLAR 5720.1, Motor Vehicle Traffic Supervision. Registering POVs identifies the vehicle as being one that is legitimately authorized on a DLA installation thereby providing an increased level of security and ensuring that only those authorized have access to the installation. The information collected is stored in the VRS database. It is used by the installation police in traffic and parking enforcement. The DESC Parking Administrator uses the information to track parking infractions, and to identify special parking privileges; such as, carpool, executive, or disabled parking.

Affected Public: Individuals; businesses or other for profit; not-for-profit institutions.

Annual Burden Hours: 2500.

Number of Respondents: 15,000.

Responses per Respondent: 1.

Average Burden per Response: 0.17 hours (10 minutes).

Frequency: Annually.

SUPPLEMENTARY INFORMATION:

Summary of Information Collection

Respondents are individuals who work at or visit the Defense Supply Center, Columbus (DSCC). Registering POVs identifies the vehicle as being one that is legitimately authorized on a DLA installation thereby providing an increased level of security and ensuring that only those authorized have access to the installation. The information collected is stored in the VRS database.

Dated: February 1, 2010.
Patricia L. Toppings,
OSD Federal Register Liaison Officer, Department of Defense.

[FR Doc. 2010-2916 Filed 2-9-10; 8:45 am]

BILLING CODE 5001-06-P